DEPARTMENT OF ENERGY

[Docket Number: EERE-2011-BT-NOA-0065]

Request for Information (RFI) Regarding Miscellaneous Residential and Commercial Electrical Equipment

AGENCY: Office of Energy Efficiency and Renewable Energy, Department of Energy.

ACTION: Notice of re-opening of public comment period.

SUMMARY: This notice announces that the period for submitting comments on the RFI Regarding Miscellaneous Residential and Commercial Electrical Equipment is re-opened until April 17, 2012.

DATES: DOE will accept comments, data, and information regarding the RFI received no later than April 17, 2012.

ADDRESSES: Interested persons may submit comments in writing, identified by docket number EERE-2011-BT-NOA-0065 by any of the following methods:

• Federal eRulemaking Portal: http://www.regulations.gov. Follow the instructions for submitting comments.

• Email: MEL-RFI-2011-NOA-0065@ee.doe.gov.

• Mail: Ms. Brenda Edwards, U.S. Department of Energy, Building Technologies Program, Mailstop EE-2J, Request for Information on Miscellaneous Electrical Equipment, EERE-2011-BT-NOA-0065. 1000 Independence Avenue SW., Washington, DC 20585-0121. Phone: (202) 586-2945. Please submit one signed original paper copy.

• Hand Delivery/Courier: Ms. Brenda Edwards, U.S. Department of Energy, Building Technologies Program, 950 L'Enfant Plaza SW., 6th Floor, Washington, DC 20024. Please submit one signed original paper copy.

Instructions: All submissions received must include the agency name and docket number.

Docket: For access to the docket to read background documents or comments received, please call Ms. Brenda Edwards at the above telephone number.

FOR FURTHER INFORMATION CONTACT: Jeremy Dommu, U.S. Department of Energy, Office of Energy Efficiency and Renewable Energy, Building Technologies Program, EE-2J, 1000 Independence Avenue SW., Washington DC 20585-0121. Telephone: (202) 586-9870. Email: Jeremy.Dommu@ee.doe.gov. In the office of General Counsel, Ms. Elizabeth Kohl, U.S. Department of Energy, Office of General Counsel, GC-71, 1000 Independence Avenue SW., Washington, DC 20585-0121. Telephone (202) 586-7796. Email: Elizabeth.Kohl@hq.doe.gov.

SUPPLEMENTARY INFORMATION: On January 24, 2012, DOE published a Request for Information (RFI) in the Federal Register (77 FR 3461) to request information regarding the energy use and energy efficiency potential of miscellaneous residential and commercial electrical equipment. The RFI provided for the submission of comments by March 26, 2012. DOE has received notice from several stakeholders that they wish to provide comments, but were unable to meet the initial deadline. In order to ensure that this input is reviewed and accepted, DOE has determined that a re-opening of the public comment period is appropriate and hereby re-opens the comment period. DOE will consider any comments received by April 17, 2012 and deems any comments received between March 26, 2012 and April 17, 2012 to be timely submitted.

Issued in Washington, DC, on April 3, 2012.
Kathleen B. Hogan,
Deputy Assistant Secretary for Energy Efficiency, Energy Efficiency and Renewable Energy.

[FR Doc. 2012-8466 Filed 4-6-12; 8:45 am]

BILLING CODE 6450-01-P